DEPARTMENT OF HEALTH AND HUMAN SERVICES

Administration for Children and Families

45 CFR Part 410

[Docket #2024-08329]

RIN 0970-AC93

Unaccompanied Children Program Foundational Rule; Correction

AGENCY: Office of Refugee Resettlement (ORR), Administration for Children and Families (ACF), U.S. Department of Health and Human Services (HHS).

ACTION: Final rule; correction.

SUMMARY: The ORR is correcting a final rule that appeared in the Federal Register on April 30, 2024. The final rule adopted and replaced regulations relating to key aspects of the placement, care, and services provided to unaccompanied children referred to the ORR, pursuant to ORR's responsibilities for coordinating and implementing the care and placement of unaccompanied children who are in Federal custody by reason of their immigration status under the Homeland Security Act of 2002 (HSA) and the William Wilberforce Trafficking Victims Protection Reauthorization Act of 2008 (TVPRA). The final rule established a foundation for the Unaccompanied Children Bureau Program (UC Bureau Program) that is consistent with ORR's statutory duties, for the benefit of unaccompanied children and to enhance public transparency as to the policies governing the operation of the UC Bureau.

DATES: Effective July 1, 2024.

FOR FURTHER INFORMATION CONTACT: Toby Biswas, Director of Policy, Unaccompanied Children Bureau Program, Office of Refugee Resettlement, Administration for Children and Families, Department of Health and Human Services, Washington, DC, (202) 205-4440 or UCPolicy-RegulatoryAffairs@acf.hhs.gov.

SUPPLEMENTARY INFORMATION: In the final rule published April 30, 2024 (89 FR 34384), there were a number of technical errors that are identified and corrected in this document. The provisions in this correction document are effective as if they had been included in the document published April 30, 2024. Accordingly, the following corrections are effective July 1, 2024.

In FR Doc. 2024-08329, appearing on page 34384 in the Federal Register of Tuesday, April 30, 2024, the following corrections are made:

Corrections to Preamble

1. On page 34407, in the third column, above the heading “Section 410.1102 Care Provider Facility Types”, add a paragraph to read “ORR also made technical revisions to § 410.1101(e) to replace `takes' with `shall take' and to delete the word `begin'.”

2. On page 34408, in the third column, in the third full paragraph, the phrase “Currently, under existing policy, a child is a candidate for long-term home care if the child is expected to have a protracted stay in ORR and is under the age of 17 and 6 months at the time of placement” is corrected to read, “Currently, under existing policy, a child is a candidate for long-term home care if the child is expected to have a protracted stay in ORR care and is under the age of 17 years and 6 months at the time of placement”.

3. On page 34419, in the first column, in the top paragraph continuing from the previous page, the sentence “Further, as discussed in section III.B.3 of the proposed rule and this final rule, the 2019 Final Rule is currently subject to an injunction.” is corrected to read “Further, as discussed in section IV.B.3 of the proposed rule and section III.B.3 of this final rule, the 2019 Final Rule is currently subject to an injunction.”

4. On page 34419, in the second column, in the first full paragraph, the third sentence “Thus, as noted in the NPRM, ORR exceeds the statutory requirement by requiring at § 410.1103(d), consistent with its existing policy, that all restrictive placements be reviewed at least every 30 days to determine whether a new level of care is appropriate (88 FR 68998).” is corrected to read, “Thus, as noted in the NPRM, ORR exceeds the statutory requirement by requiring at § 410.1103(d), consistent with its existing policy, that all restrictive placements be reviewed at least every 30 days to determine whether a new level of care is appropriate (88 FR 68921).”.

5. On page 34421, in the third column, the last sentence of the continuing paragraph, “These exceptions are consistent with placement considerations described in the TVPRA at 8 U.S.C. 1232(c)(2)(A) (noting, for example, that in making placements HHS `may consider danger to self, danger to the community, and risk of flight'), and exceptions provided for in section paragraph 19 of the FSA.” is corrected to read, “These exceptions are consistent with placement considerations described in the TVPRA at 8 U.S.C. 1232(c)(2)(A) (noting, for example, that in making placements HHS `may consider danger to self, danger to the community, and risk of flight'), and exceptions provided for in paragraph 19 of the FSA.”.

6. On page 34427, in the second column, in the second sentence of the first full paragraph, the phrase “The standards at subpart D include many of the protections that commenters have requested, including significant ones addressing minimum standards applicable at standard and secure facilities,” is corrected to read, “The standards at subpart D include many of the protections that commenters have requested, including significant ones addressing minimum standards applicable at standard programs and secure facilities,”.

7. On page 34455, in the third column, the first sentence of the second full paragraph, “After consideration of public comments, ORR is making the following modifications to regulatory language at §§ 410.1204(b) and 410.1204(e).” is corrected to read, “After consideration of public comments, ORR is making the following modifications to regulatory language at § 410.1204(b), (d), and (e).”.

8. On page 34499, in the third column, the second sentence of the last paragraph, “Section 410.1303(g) as proposed in the NPRM (redesignated to § 410.1303(h)(4) in the final rule) has no bearing on whistleblower policy and protections in any way and does not intend to infringe upon them.” is corrected to read, “Section 410.1303(g)(4) as proposed in the NPRM (redesignated to § 410.1303(h)(4) in the final rule) has no bearing on whistleblower policy and protections in any way and does not intend to infringe upon them.”.

9. On page 34506, in the third column, the first two sentences of the second full paragraph are corrected, and a new third sentence is added, to read, “After consideration of public comments, ORR is revising § 410.1304(a) by replacing `must,' as used in the NPRM, to `shall' and `care provider facilities shall' instead of `the behavior management strategies must.' ORR is revising § 410.1304(a)(1) to replace `family/sponsor' with `sponsor.' In addition, ORR is revising § 410.1304(a)(2)(ii) to include `religious observation and services' as one of the activities that care providers are prohibited from denying to unaccompanied children and is otherwise finalizing this section as proposed. ORR is also revising § 410.1304(c) to remove the phrase `as a behavioral intervention.' ”.

10. On page 34511, in the third column, the first sentence of the last paragraph, “Lastly, ORR notes that it is finalizing language access requirements related to education services at § 410.1306(e), healthcare services at § 410.1306(g), and legal services at § 410.1306(h), so that unaccompanied children understand the services that are being offered and/or provided.” is corrected to read, “Lastly, ORR notes that it is finalizing language access requirements related to education services at § 410.1306(d), healthcare services at § 410.1306(g), and legal services at § 410.1306(h), so that unaccompanied children understand the services that are being offered and/or provided.”.

11. On page 34518, in the third column, in third full paragraph, the citation “8 CFR 68946” is corrected to read “88 FR 68946”.

12. On page 34529, in the third column, at the beginning of the third full paragraph, add the heading “Comment:”.

13. On page 34545, in the first column, in the last sentence in the first full paragraph, the CFR citation “§ 410.1307(b)” is corrected to read, “§ 410.1307(c)”.

14. On page 34547, in the first column, the first sentence of the fourth full paragraph, “ORR notes that pursuant to § 410.1902 as proposed in the NPRM and finalized, an unaccompanied child transferred to a restrictive placement (secure, heightened supervision or Residential Treatment Center) will be able to request reconsideration of such placement.” is corrected to read, “ORR notes that pursuant to § 410.1902 as proposed in the NPRM and finalized in this final rule, an unaccompanied child transferred to a restrictive placement (secure, heightened supervision or Residential Treatment Center) will be able to request reconsideration of such placement.”.

15. On page 34547, in the third column, the third paragraph, “Comment: One commenter recommended the Group Transfer proposal include language to protect the individual rights of an unaccompanied child within a group of unaccompanied children being transferred so that timelines or due process rights of each unaccompanied child is recognized.” is corrected to read, “Comment: One commenter recommended the Group Transfer proposal include language to protect the individual rights of an unaccompanied child within a group of unaccompanied children being transferred so that timelines or due process rights of each unaccompanied child are recognized.”.

16. On page 89 FR 34547, in the third column, the second sentence of the fourth paragraph, “As previously discussed in § 410.1302, care provider facilities, as discussed previously in § 410.1302, will continue to follow ORR policy to ensure that the best interests of unaccompanied children are met.” is corrected to read, “As previously discussed in § 410.1302, care provider facilities will continue to follow ORR policy to ensure that the best interests of unaccompanied children are met.”.

17. On page 34561, in the third column, beginning on the 22nd line, the sentence “ORR is also replacing `arrested' with `apprehended' at § 410.1801(c)(7).” is corrected to read, “ORR is also replacing `arrested' with `apprehended' at § 410.1801(c)(8).”.

18. On page 34562, in the third column, the last sentence of the paragraph continuing from the second column, “If a child is placed into an EIF as an initial placement and as a result lacks records sufficient to indicate particular vulnerability (i.e., immediately upon transfer into ORR custody from another Federal agency), ORR screens such children for the particular vulnerabilities within 5 days of EIS placement and continues to monitor children for particular vulnerabilities thereafter.” is corrected to read, “If a child is placed into an EIF as an initial placement and as a result lacks records sufficient to indicate particular vulnerability (i.e., immediately upon transfer into ORR custody from another Federal agency), ORR screens such children for the particular vulnerabilities within 5 days of EIF placement and continues to monitor children for particular vulnerabilities thereafter.”.

19. On page 34564, in the first column, in the paragraph continuing from the previous page, beginning on the eighth line, the sentence “ORR proposed in the NPRM, at § 410.1901(d), to establish regular administrative reviews for restrictive placements (88 FR 68960).” is corrected to read, “ORR proposed in the NPRM, at § 410.1901(d), to establish regular administrative reviews for restrictive placements (88 FR 68959).”.

Corrections to Regulations

§ 410.1000 [Corrected]

20. On page 34584, in the third column, in § 410.1000, in paragraph (a), “(UC Program)” is corrected to read “(UC Bureau)”.

§ 410.1001 [Corrected]

21. On page 34586, in the third column, in § 410.1001, in the definition of Mechanical restraint, “Unaccompanied Children Program” is corrected to read “Unaccompanied Children Bureau”.

§ 410.1003 [Corrected]

22. On page 34588, in the third column, in § 410.1003, at the end of paragraph (e), “UC Program” is corrected to read “UC Bureau”.

§ 410.1104 [Corrected]

23. On page 34590, in the third column, § 410.1105(b)(2)(iv) is corrected to read:

“(iv) Has a non-violent criminal or delinquent history not warranting placement in a secure facility, such as isolated or petty offenses as described in paragraph (a)(3)(i) of this section;”

§ 410.1302 [Corrected]

24. On page 34597, in the second column, in § 410.1302, the second paragraph (c)(2)(iv) is redesignated as paragraph (c)(2)(ix).

Elizabeth J. Gramling,
Executive Secretary, Department of Health and Human Services.

[FR Doc. 2024-13560 Filed 6-25-24; 8:45 am]

BILLING CODE 4184-45-P